NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 1, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

Email: request.schedule@nara.gov.

FAX: 301-837-3698

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: (301) 837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-8, 1 item, 1 temporary item). Master files of an electronic system that contains manpower and equipment allocation data.

2. Department of the Army, Agency-wide (N1-AU-10-10, 2 items, 2 temporary items). Master files of electronic systems used to track personnel physical disability case files and temporary disability retirement listings.

3. Department of the Army, Agency-wide (N1-AU-10-92, 1 item, 1 temporary item). Master files of an electronic system used to track comments and changes to construction project designs.

4. Department of the Army, Agency-wide (N1-AU-10-96, 1 item, 1 temporary item). Master files of an electronic system used to track real property planning, maintenance, and disposal.

5. Department of the Army, Agency-wide (N1-AU-10-100, 1 item, 1 temporary item). Master files of an electronic system used to track criminal investigation case files.

6. Department of Commerce, Bureau of the Census (N1-29-10-3, 18 items, 15 temporary items). Master files, inputs, and system documentation of an electronic system used to manage data collected for economic and island area surveys, including preliminary data. Proposed for permanent retention are final survey contents, final products and summary information, and data documentation.

7. Department of Commerce, National Oceanic and Atmospheric Administration (N1-370-11-2, 14 items, 4 temporary items). Textual weather observation records and weather station history files that have been converted to an electronic medium and verified. Proposed for permanent retention are textual and digitized observations of national and international weather conditions, weather station history files, publications, and an index for scanned records.

8. Department of Defense, Office of the Secretary of Defense, (DAA-0330-2012-0006, 2 items, 2 temporary items). Records documenting offers of gifts and donations to the Department.

9. Department of Defense, Office of the Secretary of Defense (DAA-0330-2013-0001, 1 item, 1 temporary item.). Records documenting eligibility and participation in the Women Infant and Children Overseas Program.

10. Department of Energy, Office of Civilian Radioactive Waste Management (N1-434-11-2, 1 temporary item). Administrative records and copies of documents related to a nuclear waste disposal facility application.

11. Department of Health and Human Services, Centers for Medicare & Medicaid Services (DAA-0440-2012-0016, 2 items, 1 temporary item). Duplicate versions of publications issued by the Office of Communications. Proposed for permanent retention are the official recordkeeping copies of each published product.

12. Department of Health and Human Services, Centers for Medicare & Medicaid Services (DAA-0440-2012-0017, 3 items, 1 temporary item). Records related to the administration and implementation of elements of the Patient Protection and Affordable Care Act. Proposed for permanent retention are enrollment records and actuarial models related to pre-existing conditions.

13. Department of Homeland Security, U.S. Citizenship and Immigration Services (N1-566-12-3, 1 item, 1 temporary item). Hardcopy forms used to request permission to immigrate or adjust immigrant status scanned into an electronic document management system.

14. Department of Justice, Civil Rights Division (DAA-0060-2012-0027, 1 item, 1 temporary item). Survey information used for quality assurance.

15. Department of Justice, Department-wide (DAA-0060-2012-0005, 1 item, 1 temporary item). Component- and office-level organizational charts which document the structure and function of the organization.

16. Department of Justice, Department-wide (DAA-0060-2012-0023 1 item, 1 temporary item). Annual confirmation on the status of attorneys' active bar membership.

17. Department of Justice, Federal Bureau of Investigation (N1-65-13-1, 2 items, 1 temporary item). Records of miscellaneous case files consisting of routine information requests, routine investigations into civil matters, and crank mail. Proposed for permanent retention are significant cases are individually identified by NARA.

18. Department of Justice, Office of Attorney Recruitment and Management (DAA-0060-2012-0026 1 item, 1 temporary item). Annual report on the status of attorneys' bar certification.

19. Department of Justice, Office of the Inspector General (DAA-0060-2012-0011, 9 items, 4 temporary items). Subject files and correspondence of senior officials not maintained under records of the Inspector General which are proposed for permanent retention; working files; and internal office newsletters. Proposed for permanent retention are records of the Inspector General and Deputy Inspector General; records documenting testimony before Congress; semi-annual reports to Congress; and press releases.

20. Consumer Financial Protection Bureau, Agency-wide (N1-587-12-6, 14 items, 14 temporary items). Administrative and non-policy records common to most offices as well as reference copies of significant records maintained elsewhere.

21. Environmental Protection Agency, Agency-wide (DAA-0412-2012-0006, 4 items, 4 temporary items). Records related to the acquisition and management of motor vehicles, equipment, and other personal property.

22. Environmental Protection Agency, Agency-wide (DAA-0412-2013-0002, 1 item, 1 temporary item). Reduction in retention period for input forms to the Toxics Release Inventory System.

23. Federal Communications Commission, Media Bureau (N1-173-11-4, 4 items, 4 temporary items). Records of local rate orders concerning cable programming service tier rates submitted by cable operators, including appeals files and associated tracking log.

24. Office of the Director of National Intelligence, Civil Liberties and Privacy Office (N1-576-11-7, 13 items, 9 temporary items). Records include internal briefings, Web site records, agency copies of System of Records Notices, non-substantive drafts, and reference materials. Also included are records related to policy development and complaint files typically covered by the General Records Schedule. Proposed for permanent retention are compliance and assessment reports, community level board records, external speeches, and substantive working papers.

Dated: January 24, 2013.
Paul M. Wester, Jr.,
Chief Records Officer for the U.S. Government.

[FR Doc. 2013-01967 Filed 1-29-13; 8:45 am]

BILLING CODE 7515-01-P